DEPARTMENT OF COMMERCE

National Oceanic and Atmospheric Administration

RIN 0648-XG650

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 175th Council meeting by teleconference and webinar to take actions on fishery management issues in the Western Pacific Region. The Council will also hold a meeting of the Protected Species Advisory Committee (PSAC) by teleconference and webinar.

DATES: The meetings will be held on December 17, 2018. For specific times and agendas, see SUPPLEMENTARY INFORMATION.

ADDRESSES: The meetings will be held by teleconference and webinar. The teleconference numbers are: U.S. toll-free: (888) 482-3560 or International Access: +1(647) 723-3959, and Access Code: 5228220; the webinar can be accessed at: https://wprfmc.webex.com/join/info.wpcouncilnoaa.gov. The following venue also will be a host site for the PSAC meeting teleconference: Council Conference Room, 1164 Bishop Street, Suite 1400, Honolulu, HI. The following venues will also be host sites for the 175th Council Meeting teleconference: Council Conference Room, 1164 Bishop Street, Suite 1400, Honolulu, HI; Native American Samoa Advisory Council Office Conference Room, Pava'ia'i Village, Pago Pago, American Samoa; Guam Hilton Resort and SPA, 202 Hilton Road, Tumon Bay, Guam; Department of Land and Natural Resources Conference Room, Lower Base Drive, Saipan, MP.

FOR FURTHER INFORMATION CONTACT: Contact Kitty M. Simonds, Executive Director, Western Pacific Fishery Management Council; phone: (808) 522-8220.

SUPPLEMENTARY INFORMATION: The PSAC meeting will be held between 9 a.m. and 11 a.m. on December 17, 2018 (Hawaii Standard Time (HST)). The 175th Council Meeting will be held on December 17, 2018, between 12 p.m. and 2 p.m. (HST); 11 a.m. and 1 p.m. (American Samoa Standard Time (ASST)); and December 18, 2018, between 8 a.m. and 10 a.m. (Marianas Standard Time (MST)). Agenda items noted as “Final Action Items” refer to actions that result in Council transmittal of a proposed fishery management plan, proposed plan amendment, or proposed regulations to the U.S. Secretary of Commerce, under sections 304 or 305 of the MSA. Opportunities to present oral public comment will be provided throughout the agendas. The order in which agenda items is addressed may change and will be announced in advance at the meetings. The meetings may run past the scheduled times noted above to complete scheduled business.

Background documents for the 175th Council meeting will be available at http://www.wpcouncil.org. Written public comments for the 175th Council meeting should be received at the Council office by 5 p.m. (HST), December 13, 2018, and should be sent to Kitty M. Simonds, Executive Director, Western Pacific Fishery Management Council, 1164 Bishop Street, Suite 1400, Honolulu, HI 96813; fax: (808) 522-8226; or email: info.wpcouncil@noaa.gov.

Agenda for the PSAC Meeting

Monday, December 17, 2018, 9 a.m. to 11 a.m. (HST)

1. Welcome and Introductions

2. Approval of Agenda

3. Status of the Fifth Protected Species Advisory Committee Meeting Recommendations

4. Managing Loggerhead and Leatherback Sea Turtle Interactions in the Hawaii-based Shallow-set Longline Fishery

5. 2020-24 Research Priorities

6. Public Comment

7. Committee Discussion and Recommendations

8. Other Business and Next Meeting

Agenda for 175th Council Meeting

Monday, December 17, 2018, 12 p.m.-2 p.m. (HST); Monday, December 17, 2018, 11 a.m.-1 p.m. (ASST); Tuesday, December 18, 2018, 8 a.m.-10 a.m. (MST)

1. Welcome and Introductions

2. Approval of the 175th Agenda

3. Managing Loggerhead and Leatherback Sea Turtle Interactions in the Hawaii-based Shallow-set Longline Fishery (Final Action Item)

4. Protected Species Advisory Committee Report and Recommendations

5. Public Comment

6. Council Discussion and Recommendations

7. Other Business

Non-emergency issues not contained in this agenda may come before the Council for discussion and formal Council action during the 175th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 28, 2018.
Tracey L. Thompson,
Acting Deputy Director, Office of Sustainable Fisheries, National Marine Fisheries Service.

[FR Doc. 2018-26185 Filed 11-30-18; 8:45 am]

BILLING CODE 3510-22-P